DEPARTMENT OF AGRICULTURE

National Agricultural Statistics Service

Notice of Intent To Create a New Information Collection

AGENCY: National Agricultural Statistics Service, USDA.

ACTION: Notice and request for comments.

SUMMARY: In accordance with the Paperwork Reduction Act of 1995, this notice announces the intent of the National Agricultural Statistics Service (NASS) to seek the approval to conduct a new data collection to comply with a mandate in the 2014 Farm Bill. (. . . the Secretary of Agriculture should recognize the threat feral swine pose to the domestic swine population and the entire agriculture industry . . .).

DATES: Comments on this notice must be received by April 3, 2015 to be assured of consideration.

ADDRESSES: You may submit comments, identified by docket number 0535-NEW, by any of the following methods:

• Email: ombofficer@nass.usda.gov. Include docket number above in the subject line of the message.

• Efax: (855) 838-6382

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: R. Renee Picanso, Associate Administrator, National Agricultural Statistics Service, U.S. Department of Agriculture, (202) 720-4333. Copies of this information collection and related instructions can be obtained without charge from David Hancock, NASS—OMB Clearance Officer, at (202) 690-2388 or at ombofficer@nass.usda.gov.

SUPPLEMENTARY INFORMATION:

Title: Feral Swine Survey.

OMB Control Number: 0535-NEW.

Type of Request: Intent to Seek Approval for a 3 Year Period to Conduct a New Information Collection.

Abstract: On April 2, 2014 the Undersecretary for USDA's Marketing and Regulatory Programs, Edward Avalos announced that the USDA was kicking off a national effort to reduce the devastating damage caused by feral swine. The $20 million program aims to help states deal with a rapidly expanding population of invasive wild swine. “Feral swine are one of the most destructive invaders a state can have,” said Undersecretary Avalos. “They have expanded their range from 17 to 39 states in the last 30 years and cause damage to crops, kill young livestock, destroy property, harm natural resources, and carry diseases that threaten other animals as well as people and water supplies. It's critical that we act now to begin appropriate management of this costly problem.”

On Feb 3, 1999, Executive Order 13112 was signed by President Clinton establishing the National Invasive Species Council. The Executive Order requires that a Council of Departments dealing with invasive species be created. Currently there are 13 Departments and Agencies on the Council. (Executive Order 13112 of February 3, 1999—Invasive Species Federal Register: Feb 8, 1999 (Volume 64, Number 25)).

The Animal and Plant Health Inspection Service (APHIS), Wildlife Services' (WS) National Wildlife Research Center (NWRC) is the only Federal research organization devoted exclusively to resolving conflicts between people and wildlife through the development of effective, selective, and socially responsible methods, tools, and techniques. As increased urbanization leads to a loss of traditional wildlife habitat, the potential for conflicts between people and wildlife increases. Such conflicts can take many forms, including property and natural resource damage, human health and safety concerns, and disease transmission among wildlife, livestock, and humans.

The high reproductive rate and adaptability of feral swine has resulted in populations that have dramatically increased in size and distribution. This invasive animal now occurs across much of the United States where it causes a range of agricultural and environmental damage through depredation, rooting, and wallowing activities. Furthermore, feral swine compete with native wildlife and livestock for habitats, are carriers of exotic and endemic diseases, and transmit parasites to livestock and humans. Feral swine are considered a major emerging threat to American agriculture (Seward et al. 2004). Recent data shows that the proportions of U.S. counties with agricultural production that also have feral swine present are increasing. Over the period of 1998-2013, the proportion of counties with hog, and crop production that are affected by feral swine has increased. Feral swine damage crops through direct consumption of crops and other behaviors, such as rooting, trampling, and wallowing, which can destroy fields or reduce productivity. Field crops commonly damaged by feral swine include soybeans, corn, grain sorghum, wheat, oats, peanuts, and rice, among others. Rooting can affect the plant composition of a pasture by promoting the growth of undesirable plants where hogs have destroyed desirable forage grasses. Once pastures are degraded in this way, landowners must spend considerable money and time restoring them to pre-swine conditions (Whitehouse 1999, Mapston 2004).

The benchmark survey will be conducted in 2015 in the 11 States (Alabama, Arkansas, California, Florida, Georgia, Louisiana, North Carolina, Mississippi, Missouri, South Carolina, and Texas) that have high feral swine densities and a significant presence of corn, soybeans, wheat, rice, grain sorghum (Texas), and peanuts. The initial survey will be used to create a benchmark for the following objectives:

1. Describe the monetary loss for all crops caused by feral swine to producers of corn, soybeans, wheat, rice, peanuts, and grain sorghum (TX only) in each of the surveyed states.

2. Describe the monetary loss to livestock caused by feral swine for producers of corn, soybeans, wheat, rice, peanuts, and grain sorghum (TX only) in each of the surveyed states.

3. Describe the monetary loss to property caused by feral swine for producers of corn, soybeans, wheat, rice, grain sorghum (TX only) and peanuts in each of the surveyed states.

4. Describe feral swine control costs incurred by producers of corn, soybeans, wheat, rice, peanuts, and grain sorghum (TX only) in each of the surveyed states. Variables that will be measured include hunting, trapping, use of fencing, or the use of repellents. No data will be collected on the use of chemical or physical contraception usage.

5. Describe the total net income to producers of corn, soybeans, wheat, rice, peanuts, and grain sorghum (TX only) in each of the surveyed states for allowing the hunting of feral swine on their operations.

Based on the results of this survey, Wildlife Service plans to publish State level data if possible. Also, there may be a follow-up survey to measure the effectiveness of control measures implemented by Wildlife Services. This follow-up survey will also be contingent upon availability of funding.

Authority: These data will be collected under the authority of 7 U.S.C. 2204(a). Individually identifiable data collected under this authority are governed by Section 1770 of the Food Security Act of 1985, 7 U.S.C. 2276, which requires USDA to afford strict confidentiality to non-aggregated data provided by respondents. This Notice is submitted in accordance with the Paperwork Reduction Act of 1995 Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Reporting burden for this collection of information is estimated to average 30 minutes per response. This was determined by our Survey Methodologists, who compared the length and difficulty of the questions with similar surveys. They also took into account the projected number of farmers who will skip some sections of the questionnaire due to the presence or absence of damage due to feral swine. Burden is based on an estimated minimum response rate of 80%. On similar types of surveys and through the use of a mail questionnaire and telephone follow-up to non-respondents NASS has been able to contact and collect some data from approximately 80% of the target sample. After removing the out of business operations and those with no items of interest we hope to have at least a 65 to 70% usable response rate.

NASS will be utilizing several pieces of publicity and informational materials to encourage respondents to participate in this important survey. NASS will conduct the survey initially by mail with phone follow-up for non-response.

Respondents: Farm Operators.

Estimated Annual Number of Respondents: 10,800.

Estimated Total Annual Burden on Respondents: 5,500 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, January 16, 2015.
R. Renee Picanso,
Associate Administrator.

[FR Doc. 2015-01912 Filed 1-30-15; 8:45 am]

BILLING CODE 3410-20-P